NUCLEAR REGULATORY COMMISSION

[Docket No. 030-09472]

Notice of Consideration of Request for License Termination of Department of Veterans Affairs Medical and Regional Office License and Release of Its Facility in Wichita, Kansas Amendment

AGENCY: Nuclear Regulatory Commission.

ACTION: Notice of consideration of amendment request to terminate Byproduct Material License No. 15-15618-01.

FOR FURTHER INFORMATION CONTACT: Dr. Peter J. Lee, Division of Nuclear Materials Safety, U.S. Nuclear Regulatory Commission, Region III, 801 Warrenville Road, Lisle, Illinois 60532-4351; telephone (630) 829-9870 or by e-mail at pjl2@nrc.gov.

SUPPLEMENTARY INFORMATION:

I. Introduction

The U.S. Nuclear Regulatory Commission (NRC) is considering the issuance of an amendment to Department of Veterans Affairs Medical and Regional Office (VA) Byproduct Material License No. 15-15618-01, to terminate the license and release its facility located at 5500 East Kellogg in Wichita, Kansas, for unrestricted use.

The NRC staff has prepared an Environmental Assessment (EA) in support of this licensing action, in accordance with the requirements of 10 CFR part 51. Based on the EA, the NRC has concluded that a Finding of No Significant Impact (FONSI) is appropriate.

II. EA Summary

The purpose of the proposed action is to allow the release of the licensee's Wichita, Kansas facility for unrestricted use. This license was approved for in-vitro research utilizing labeled compounds, such as H-3, C-14, P-32, and others. On June 6, 2003, the VA requested that the NRC release the facility for unrestricted use. The VA has conducted surveys of the facility and provided information to the NRC to demonstrate that the site meets the license termination criteria in Subpart E of 10 CFR part 20 for unrestricted release. The staff has examined VA's request and the information that the licensee has provided in support of its request, including the surveys performed by VA to demonstrate compliance with 10 CFR 20.1402, “Radiological Criteria for Unrestricted Use,” to ensure that the NRC's decision is protective of the public health and safety and the environment. Based on its review, the staff has determined that the affected environment and the environmental impacts associated with the unrestricted use of the VA's facilities are bounded by the impacts evaluated by the “Generic Environmental Impact Statement in Support of Rulemaking on Radiological Criteria for License Termination of NRC-Licensed Nuclear Facilities” (NUREG-1496). The staff also finds that the proposed release for unrestricted use of the VA facility is in compliance with the 10 CFR 20.1402.

III. Finding of No Significant Impact

The staff has prepared the EA (summarized above) in support of VA's proposed license amendment to release the Wichita facility for unrestricted use. On the basis of the EA, the staff has concluded that the environmental impacts from the proposed action would not be significant. Accordingly, the staff has determined that a FONSI is appropriate, and has determined that the preparation of an environmental impact statement is not warranted.

IV. Further Information

In accordance with 10 CFR 2.790 of the NRC's “Rules of Practice,” VA's request, the EA summarized above, and the documents related to this proposed action are available electronically for public inspection and copying from the Publicly Available Records (PARS) component of NRC's document system (ADAMS). ADAMS is accessible from the NRC Web site at http://www.nrc.gov/reading-rm.html. These documents include VA's letter dated June 6, 2003, with enclosures (Accession No. ML032960318); and the EA summarized above (Accession No. ML033020066).

Dated at Lisle, Illinois, this 28th day of October 2003.
Christopher G. Miller,
Chief, Decommissioning Branch, Division of Nuclear Materials Safety, RIII.

[FR Doc. 03-28184 Filed 11-7-03; 8:45 am]

BILLING CODE 7590-01-P